Title 3—

The President

Proclamation 8308 of October 16, 2008

National Character Counts Week, 2008

By the President of the United States of America

A Proclamation

The strength of our Nation is found in the character of our citizens. During National Character Counts Week, we recommit ourselves to instilling strong values in our youth and encourage all Americans to develop good character.

Parents and families can teach children the timeless principles of respect, responsibility, honesty, commitment, and compassion. In our communities, parents, mentors, clergy members, teachers, coaches, and neighbors serve as role models by dedicating their time and talents to help others. At home and abroad, members of our Armed Forces exemplify the true character of our Nation by bravely protecting our freedom and serving a cause greater than self.

The Helping America's Youth initiative, led by First Lady Laura Bush, connects young people with caring adults and community organizations that help them avoid risky behavior and achieve success. By becoming actively involved in the lives of children, we can help our young people make the right choices and lead lives of integrity and achievement.

National Character Counts Week is an opportunity for our citizens to reaffirm their responsibility to their communities and to recognize the importance of teaching strong values to our next generation of leaders. For more information on ways to set a positive example and make a lasting contribution to the future of our country, citizens can visit volunteer.gov.

NOW, THEREFORE, I, GEORGE W. BUSH, President of the United States of America, by virtue of the authority vested in me by the Constitution and laws of the United States, do hereby proclaim October 19 through October 25, 2008, as National Character Counts Week. I call upon public officials, educators, librarians, parents, students, and all Americans to observe this week with appropriate ceremonies, activities, and programs.

IN WITNESS WHEREOF, I have hereunto set my hand this sixteenth day of October, in the year of our Lord two thousand eight, and of the Independence of the United States of America the two hundred and thirty-third.

[FR Doc. E8-25194

Filed 10-20-08; 8:45 am]

Billing code 3195-W9-P